DEPARTMENT OF AGRICULTURE

Animal and Plant Health Inspection Service

[Docket No. APHIS-2012-0054]

Notice of Request for a Revision to and Extension of Approval of an Information Collection; Specimen Collection

AGENCY: Animal and Plant Health Inspection Service, USDA.

ACTION: Revision to and extension of approval of an information collection; comment request.

SUMMARY: In accordance with the Paperwork Reduction Act of 1995, this notice announces the Animal and Plant Health Inspection Service's intention to request a revision to and an extension of approval of an information collection associated with livestock disease surveillance programs.

DATES: We will consider all comments that we receive on or before September 17, 2012.

ADDRESSES: You may submit comments by either of the following methods:

• Federal eRulemaking Portal: Go to http://www.regulations.gov/#!documentDetail;D=APHIS-2012-0054-0001.

• Postal Mail/Commercial Delivery: Send your comment to Docket No. APHIS-2012-0054, Regulatory Analysis and Development, PPD, APHIS, Station 3A-03.8, 4700 River Road Unit 118, Riverdale, MD 20737-1238.

Supporting documents and any comments we receive on this docket may be viewed at http://www.regulations.gov/#!docketDetail;D=APHIS-2012-0054 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information regarding livestock disease surveillance programs, contact Dr. Matt Messenger, Staff Entomologist, VS-NAHPP, APHIS, 4700 River Road Unit 43, Riverdale, MD 20737; (301) 851-3421. For copies of more detailed information on the information collection, contact Mrs. Celeste Sickles, APHIS' Information Collection Coordinator, at (301) 851-2908.

SUPPLEMENTARY INFORMATION:

Title: Specimen Submission.

OMB Number: 0579-0090.

Type of Request: Revision to and extension of approval of an information collection.

Abstract: The United States Department of Agriculture (USDA) is responsible for, among other things, preventing the interstate spread of livestock diseases and for eradicating such diseases from the United States when feasible.

In connection with this mission, the Veterinary Services (VS) program of the USDA's Animal and Plant Health Inspection Service conducts disease surveillance programs. The VS Form 10-4 and its supplemental sheet (VS Form 10-4A) are critical components of these programs. They are routinely used whenever specimens (such as blood, milk, tissue, or urine) from any animal (including cattle, swine, sheep, goats, horses, and poultry) are submitted to our National Veterinary Services Laboratories for disease testing.

VS Form 5-38, Parasite Submission Form, is also being added to this collection. The Cattle Fever Tick Eradication Program and the National Tick Surveillance Program rely on the information submitted on VS Form 5-38, which was inadvertently omitted from previous submissions.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.33 hours per response.

Respondents: State veterinarians, accredited veterinarians, animal health technicians, other State personnel who are qualified and authorized to collect and submit specimens for laboratory analysis, and herd owners.

Estimated annual number of respondents: 3,208.

Estimated annual number of responses per respondent: 8.7594.

Estimated annual number of responses: 28,100.

Estimated total annual burden on respondents: 9,273 hours. (Due to averaging, the total annual burden hours may not equal the product of the annual number of responses multiplied by the reporting burden per response.)

All responses to this notice will be summarized and included in the request for OMB approval. All comments will also become a matter of public record.

Done in Washington, DC, this 12th day of July 2012.
Kevin Shea,
Acting Administrator, Animal and Plant Health Inspection Service.

[FR Doc. 2012-17541 Filed 7-17-12; 8:45 am]

BILLING CODE 3410-34-P